DEPARTMENT OF TRANSPORTATION

Federal Aviation Administration

[Docket No. FAA-2024-2478]

Agency Information Collection Activities: Requests for Comments; Clearance of Renewed Approval of Information Collection: Report of Inspections Required by Airworthiness Directive, Part 39

AGENCY: Federal Aviation Administration (FAA), DOT.

ACTION: Notice and request for comments.

SUMMARY: In accordance with the Paperwork Reduction Act of 1995, FAA invites public comments about our intention to request the Office of Management and Budget (OMB) approval to renew an information collection. The collection involves the member of the public that may submit an Alternative Methods of Compliance (AMOC) request to the FAA by using the Airworthiness Directives Development (ADD) External website. The information to be collected will be used to support publicly disseminated information to the FAA and/or is necessary because this information supports the Department of Transpiration's strategic goal to promote the public health and safety by working toward eliminating transportation-related deaths and injuries.

DATES: Written comments should be submitted by December 20, 2024.

ADDRESSES: Please send written comments:

By Electronic Docket: https://www.regulations.gov (Enter docket number into search field).

By Mail: Michelle Janollari, 25249 Country Club Blvd., North Olmsted, OH 44070.

By Email: michelle.k.janollari@faa.gov.

FOR FURTHER INFORMATION CONTACT: Michelle Janollari by email at: michelle.k.janollari@faa.gov; phone: 440-686-2001.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0056.

Title: Report of Inspections Required by Airworthiness Directives, Part 39.

Form Numbers: There is no standard form to use for AMOC submission. However, the public may access the ADD External website to submit an AMOC request to the FAA.

Type of Review: Renewal of an information collection.

Background: Alternative Methods of Compliance (AMOC) are submitted to the FAA by the general public. While anyone may submit an AMOC there is no standard form to use. From Order 8110.103B Alternative Methods of Compliance (AMOC), Section 32:

3-2. AMOC Proposal. 14 CFR 39.19 states in part that “anyone may propose to the FAA an alternative method of compliance or a change in the compliance time, if the proposal provides an acceptable level of safety.”

a. Although a letter is preferred, AMOC proposals may be submitted by other means, such as email, fax, or telephone. AMOC proposals received by telephone must be documented.

An AMOC Response Letter is written by an internal FAA user and sent to the AMOC Requester. The template may be generated from the ADD Dashboard and follows the latest Order. There is not an FAA or OMB number on this template.

A member of the public may submit an AMOC request to the FAA by using the ADD External website. Registration is not needed to use this website. External users must consent to the “Terms of Use” statement before proceeding to the AMOC proposal web page. An AMOC is required if an owner/operator of aircraft cannot comply with an AD or finds a different method to comply with the actions specified in an AD, as mandated by 14 CFR part 39.

Respondents: The respondents are a member of the public who may submit an AMOC request to FAA by using the ADD External website. We estimate that 25 ADs yearly will require reports of information and findings. The average AD affects about 1,120 owners/operators. Therefore, 25 ADs times 1,120 owners/operators per year equal 28,000 reports.

Frequency: As needed.

Estimated Average Burden per Response: 1 hour.

Estimated Total Annual Burden: 28,000 reporting hours.

Issued on October 16, 2024.
Hollister B. Thorson,
Manager, Airworthiness Products Section, Operational Safety Branch, Compliance & Airworthiness Division, Aircraft Certification Service.

[FR Doc. 2024-24309 Filed 10-18-24; 8:45 am]

BILLING CODE 4910-13-P